DEPARTMENT OF ENERGY

Federal Energy Regulatory Commission

[Docket Nos. EC06-111-000, et al.]

ESI Energy, LLC, et al.; Electric Rate and Corporate Filings

May 26, 2006.

The following filings have been made with the Commission. The filings are listed in ascending order within each docket classification.

1. ESI Energy, LLC; Bison Wind GP, LLC; Heartland LP, LLC; Bison Wind Holdings, LLC; Bison Wind, LLC; FPL Energy Burleigh County Wind, LLC; FPL Energy Burleigh County Wind, LLC

[Docket No. EC06-111-000]

Take notice that on May 16, 2006, ESI Energy, LLC, Bison Wind GP, LLC, Heartland LP, LLC, Bison Wind Holdings, LLC, Bison Wind, LLC, FPL Energy Burleigh County Wind, LLC, and FPL Energy Burleigh County Wind, LLC filed a notice of withdrawal for an Application under section 203 of the Federal Power Act, submitted on April 14, 2006.

Comment Date: 5 p.m. Eastern Time June 6, 2006.

2. ITC Holdings Corp.; International Transmission Company; Michigan Transco Holdings, Limited Partnership; Michigan Electric Transmission Company, LLC; Trans-Elect NTD Path 15, LLC

[Docket No. EC06-123-000]

Take notice that on May 19, 2006, ITC Holdings Corp., International Transmission Company, Michigan Transco Holdings, Limited Partnership, Michigan Electric Transmission Company, LLC, and Trans-Elect NTD Path 15, LLC filed a joint application for authorization of indirect acquisition and disposition of jurisdictional facilities, pursuant to section 203 of the Federal Power Act.

Comment Date: 5 p.m. Eastern Time on June 12, 2006.

3. Elkem Metals Company

[Docket No. EC06-124-000]

Take notice that on May 19, 2006, Elkem Metals Company filed an application for authorization for disposition of certain jurisdictional facilities located in Fayette County, WV and request for expedited treatment, pursuant to section 203 of the Federal Power Act and part 33 of the Commission's regulations.

Comment Date: 5 p.m. Eastern Time on June 12, 2006.

4. SAF Hydroelectric LLC

[Docket No. EG06-51-000]

Take notice that on May 11, 2006, SAF Hydroelectric LLC filed an application, pursuant to part 365 of the Commission's regulations, of self-certification as an exempt wholesale generator for the Lower St. Anthony Falls Hydroelectric Project, located in Minneapolis Minnesota.

Comment Date: 5 p.m. Eastern Time on June 1, 2006.

5. Invenergy Wind Europe LLC

[Docket No. FC06-3-000]

Take notice that on April 18, 2006, Invenergy Wind Europe LLC on behalf of its indirectly owned subsidiary, EEZ Sp. z o.o. filed, pursuant to section 366.7(a) of the Commission's regulations, a noticed of self-certification of foreign utility company status.

Comment Date: 5 p.m. Eastern Time on June 8, 2006.

6. Empresa Eléctrica De Talca S.A.

[Docket No. FC06-4-000]

Take notice that on May 3, 2006, PMDC Chile, LLC, on behalf of its indirect subsidiary, Empresa Eléctrica De Talca S.A. (Emetal) filed, pursuant to sections 366.7 and 366.1 of the Commission's regulations, a noticed of self-certification of foreign utility company status.

Comment Date: 5 p.m. Eastern Time on June 8, 2006.

7. Empresa de Transmisión Eléctrica Transemel S.A.

[Docket No. FC06-5-000]

Take notice that on May 3, 2006, PMDC Chile, LLC, on behalf of its indirect subsidiary, Empresa de Transmisión Eléctrica Transemel S.A. (Transemel) filed, pursuant to sections 366.7 and 366.1 of the Commission's regulations, a noticed of self-certification of foreign utility company status.

Comment Date: 5 p.m. Eastern Time on June 8, 2006.

8. Alcoa Inc.; Manicouagan Power Company; Alcoa of Australia Limited; Alcoa Alumíno S.A.; Suriname Aluminum Company L.L.C.

[Docket No. FC06-6-000]

Take notice that on May 19, 2006, Alcoa, on behalf of its direct and indirect subsidiaries Manicouagan Power Company, Alcoa of Australia Limited, Alcoa Alumíno S.A, and Suriname Aluminum Company L.L.C. filed, pursuant to sections 366.7(a) and 366.1 of the Commission's regulations, a noticed of self-certification of foreign utility company status.

Comment Date: 5 p.m. Eastern Time on June 9, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-8630 Filed 6-2-06; 8:45 am]

BILLING CODE 6717-01-P